DEPARTMENT OF TRANSPORTATION

Federal Aviation Administration

RTCA Special Committee 198: Next-Generation Air/Ground Communications System (NEXCOM)

AGENCY: Federal Aviation Administration (FAA), DOT.

ACTION: Notice of RTCA Special Committee 198 meeting.

SUMMARY: The FAA is issuing this notice to advise the public of a meeting of RTCA Special Committee 198: Next-Generation Air/Ground Communications System (NEXCOM).

DATES: The meeting will be held on May 21-23, 2002, starting at 9 a.m.

ADDRESSES: The meeting will be held at RTCA, 1828 L Street, Suite 805, Washington, DC, 20036.

FOR FURTHER INFORMATION CONTACT: RTCA Secretariat, 1828 L Street, NW, Suite 805, Washington, DC, 20036; telephone (202) 833-9339; fax (202) 833-9434; web site http://www.rtca.org.

SUPPLEMENTARY INFORMATION: Pursuant to section 10(a)(2) of the Federal Advisory Committee Act (Pub. L. 92-463, 5 U.S.C. Appendix 2), notice is hereby given for a Special Committee 198 meeting. The agenda will include:

• May 21:

• Opening Plenary Session (Welcome and Introductory Remarks, Review Minutes of Previous Meeting).

• Status of Working Group 4, VHF Data Link (VDL) 3 Implementation.

• Status of Working Group 5, VDL 3 Operational Safety Analysis, System Performance Requirements.

• Status of Working Group 6, VDL 3 Interoperability of NEXCOM.

• Closing Plenary Session (Date and Place of Next Meeting).

• May 22, 23:

• Working Groups 4 and 5.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 29, 2002.
Jane P. Caldwell,
Program Director, System Engineering Resource Management.

[FR Doc. 02-11056 Filed 5-2-02; 8:45 am]

BILLING CODE 4910-13-M